DEPARTMENT OF THE TREASURY

Submission for OMB Review; Comment Request

October 18, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 27, 2002, to be assured of consideration.

Internal Revenue Service (IRS)

OMB Number: 1545-0071.

Form Number: IRS Form 2120.

Type of Review: Extension.

Title: Multiple Support Declaration.

Description: A taxpayer who pays more than 10%, but less than 50%, of the support for an individual may claim that individual as a dependent provided the taxpayer attaches declarations from anyone else providing at least 10% support stating that they will not claim the dependent. This form is used to show that the other contributors have agreed not to claim the individual as a dependent.

Respondents: Individuals or households.

Estimated Number of Respondents/Recordkeepers: 11,000.

Estimated Burden Hours Per Respondent/Recordkeeper:

| Minutes
Recordkeeping | 6
Learning about the law or the form | 4
Preparing the form | 7
Copying, assembling, and sending the form to the IRS | 13

Frequency of Response: Annually.

Estimated Total Reporting/Recordkeeping Burden: 112,500 hours.

OMB Number: 1545-0108.

Form Number: IRS Form 1096.

Type of Review: Extension.

Title: Annual Summary and Transmittal of U.S. Information Returns.

Description: Form 1096 is sued to transmit information returns (Forms 1099, 1098, 5498, a W-2G) to the IRS Service Centers. Under Internal Revenue Code (IRC) section 6041 and related sections, a separate Form 1096 is used for each type of return to the service center by the payer. It is used by IRS to summarize and categorize the transmitted forms.

Respondents: Business or other for-profit, Individuals or households, Not-for-profit institutions, Farms, Federal Government, State, Local or Tribal Government.

Estimated Number of Respondents: 4,023,036.

Estimated Burden Hours Per Respondent: 13 minutes.

Frequency of Response: Annually.

Estimated Total Reporting Burden: 1,016,812 hours.

OMB Number: 1545-0257.

Form Number: IRS Forms 8109, 8109-B, and 8109-C.

Type of Review: Extension.

Title: Federal Tax Deposit Coupon (8109 and 8109-B); and Form FTD Address Change (Form 8109-C).

Description: Federal Tax Deposit Coupons are used to deposit certain types of taxes at authorized depositaries. Coupons are sent to the IRS Centers for crediting to taxpayers' accounts. Data is used by the IRS to make the credit and to verify tax deposits claimed on the returns. The FTD Address Change is used to change the address on the FTD coupons. All taxpayers required to make deposits are affected.

Respondents: Business or other for-profit, Not-for-profit institutions, Farms, Federal Government, State, Local or Tribal Government.

Estimated Number of Respondents: 9,300,700.

Estimated Burden Hours Per Respondent:

| Minutes
Form 8109 | 2
Form 8109-B | 3
Form 8109-C | 1

Frequency of Response: On occasion, Weekly, Monthly, Other (semiweekly).

Estimated Total Reporting Burden: 1,841,607 hours.

OMB Number: 1545-0718.

Form Number: IRS Form 941-M.

Type of Review: Extension.

Title: Employer's Monthly Federal Tax Return.

Description: Form 941-M is used by certain employers to report payroll taxes on a monthly rather than quarterly basis. Employers who have failed to file Form 941 or who have failed to deposit as required are notified by the District Director that they must file Form 941-M monthly.

Respondents: Business or other for-profit, Individuals or households.

Estimated Number of Respondents/Recordkeepers: 1,000.

Estimated Burden Hours Per Respondent/Recordkeeper:

Recordkeeping | 12 hr., 26 min.
Learning about the law or the form | 35 min.
Preparing, copying, assembling, and sending the form to the IRS | 49 min.

Frequency of Response: Monthly.

Estimated Total Reporting/Recordkeeping Burden: 166,320 hours.

OMB Number: 1545-1029.

Regulation Project Number: IA-83-90 Final.

Type of Review: Extension.

Title: Disclosure of Tax Return Information or Purposes of Quality or Peer Review; Disclosure of Tax Return Information Due to Incapacity or Death of Tax Return Preparer.

Description: These regulations govern the circumstances under which tax return information may be disclosed for purposes of conducting quality or peer reviews, and disclosures that are necessary because of the tax return preparer's death or incapacity.

Respondents: Business or other for-profit.

Estimated Number of Recordkeepers: 250,000.

Estimated Burden Hours Per Recordkeeper: 1 hour.

Estimated Total Reporting/Recordkeeping Burden: 250,000 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental PRA Clearance Officer.

[FR Doc. 02-27303 Filed 10-25-02; 8:45 am]

BILLING CODE 4830-01-P